ENVIRONMENTAL PROTECTION AGENCY

[EPA-HQ-OLEM-2020-0527; FRL-11611-01 OLEM]

Interim PFAS Destruction and Disposal Guidance; Notice of Availability for Public Comment

AGENCY: Environmental Protection Agency (EPA).

ACTION: Notice of availability for public comment.

SUMMARY: The National Defense Authorization Act for Fiscal Year 2020 (FY 2020 NDAA) was signed into law on December 19, 2019. Section 7361 of the FY 2020 NDAA directs the U.S. Environmental Protection Agency (EPA) to publish interim guidance on the destruction and disposal of perfluoroalkyl and polyfluoroalkyl substances (PFAS) and materials containing PFAS and to update the guidance at least every three years, as appropriate. The EPA is releasing an update to the December 20, 2020, interim guidance for public comment. The updated guidance builds on information pertaining to technologies that may be feasible and appropriate for the destruction or disposal of PFAS and PFAS-containing materials. The 2024 interim guidance also identifies key data gaps and uncertainties that must be resolved before the EPA can issue more definitive recommendations about PFAS destruction and disposal technologies.

DATES: Comments must be received on or before October 15, 2024.

ADDRESSES: You may send comments, identified by Docket ID No. EPA-HQ-OLEM-2020-0527, by any of the following methods:

• Federal eRulemaking Portal: https://www.regulations.gov (our preferred method). Follow the online instructions for submitting comments.

• Mail: U.S. Environmental Protection Agency, EPA Docket Center, OLEM Docket, Mail Code 28221T, 1200 Pennsylvania Avenue NW, Washington, DC 20460.

• Hand Delivery or Courier (by scheduled appointment only): EPA Docket Center, WJC West Building, Room 3334, 1301 Constitution Avenue NW, Washington, DC 20004. The Docket Center's hours of operations are 8:30 a.m.-4:30 p.m., Monday-Friday (except Federal Holidays).

Instructions: All submissions received must include the Docket ID No. for this rulemaking. Comments received may be posted without change to https://www.regulations.gov/, including any personal information provided. For detailed instructions on sending comments and additional information on the rulemaking process, see the “Public Participation” heading of the SUPPLEMENTARY INFORMATION section of this document. For further information on EPA Docket Center services and the current status, please visit us online at https://www.epa.gov/dockets.

FOR FURTHER INFORMATION CONTACT: Cindy Frickle, Office of Superfund Remediation and Technology Innovation (5203T), Environmental Protection Agency, 1200 Pennsylvania Avenue NW, Washington, DC 20460; telephone number 202-566-0927; email address: frickle.cindy@epa.gov.

SUPPLEMENTARY INFORMATION:

I. General Information

A. Does this action apply to me?

This interim guidance provides a summary of EPA's current knowledge of technologies for destruction or disposal of PFAS and PFAS-containing materials. The primary audience of this guidance is decision makers who need to identify the most effective means for destroying or disposing of PFAS-containing materials and wastes. The audience may also include regulators, waste managers, and the public, including affected communities.

Barry N. Breen,
Principal Deputy Assistant Administrator, Office of Land and Emergency Management.

[FR Doc. 2024-08064 Filed 4-15-24; 8:45 am]

BILLING CODE 6560-50-P